FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 25, 2007.

A. Federal Reserve Bank of St. Louis (Glenda Wilson, Community Affairs Officer) 411 Locust Street, St. Louis, Missouri 63166-2034:

1. Bennie F. Ryburn, Jr., as sole voting trustee of the Bennie F. Ryburn Family Trust; to retain voting shares of Drew Bancshares, Inc., and thereby indirectly retain voting shares of Commercial Bank & Trust Company, all of Monticello, Arkansas.

B. Federal Reserve Bank of Minneapolis (Jacqueline G. King, Community Affairs Officer) 90 Hennepin Avenue, Minneapolis, Minnesota 55480-0291:

1. William H. Unger, Sauk Centre, Minnesota, and Alfred P. Minnerath, Starbuck, Minnesota; to acquire control of Sauk Centre Financial Services, Inc., and thereby indirectly acquire control of First National Bank of Sauk Centre, both of Sauk Centre, Minnesota.

C. Federal Reserve Bank of Dallas (W. Arthur Tribble, Vice President) 2200 North Pearl Street, Dallas, Texas 75201-2272:

1. David E. Locke, Miami, Texas, Locke M. Carter, Wolfforth, Texas, and Susan Moore Carter Rhoades, Pampa, Texas; to acquire voting shares of Miami Bancshares, Inc., and thereby indirectly acquire voting shares of First State Bank of Miami Texas, both of Miami, Texas.

Board of Governors of the Federal Reserve System, June 5, 2007.
Robert deV. Frierson,
Deputy Secretary of the Board.

[FR Doc. E7-11091 Filed 6-7-07; 8:45 am]

BILLING CODE 6210-01-S